DEPARTMENT OF ENERGY

Federal Energy Regulatory Commission

Combined Notice of Filings

Take notice that the Commission has received the following Natural Gas Pipeline Rate and Refund Report filings:

Docket Numbers: RP11-1765-000.

Applicants: Leaf River Energy Center LLC.

Description: Leaf River Energy Center LLC submits tariff filing per 154.203: Filing of Initial FERC Gas Tariff in Compliance with Docket No CP08-8-000 to be effective 3/11/2011.

Filed Date: 02/09/2011.

Accession Number: 20110209-5133.

Comment Date: 5 p.m. Eastern Time on Tuesday, February 22, 2011.

Docket Numbers: RP11-1766-000.

Applicants: Colorado Interstate Gas Company.

Description: Colorado Interstate Gas Company submits tariff filing per 154.204: Gas Quality Clean-up to be effective 3/14/2011.

Filed Date: 02/09/2011.

Accession Number: 20110209-5182.

Comment Date: 5 p.m. Eastern Time on Tuesday, February 22, 2011.

Docket Numbers: RP11-1767-000.

Applicants: Iroquois Gas Transmission System, L.P.

Description: Iroquois Gas Transmission System, L.P. submits tariff filing per 154.204: 02/10/11 Negotiated Rates—JP Morgan Ventures Energy Corporation to be effective 2/10/2011.

Filed Date: 02/10/2011.

Accession Number: 20110210-5065.

Comment Date: 5 p.m. Eastern Time on Tuesday, February 22, 2011.

Docket Numbers: RP11-1768-000.

Applicants: Wyoming Interstate Company, L.L.C.

Description: Wyoming Interstate Company, L.L.C. submits tariff filing per 154.204: Negotiated Rate Update (BP) to be effective 3/14/2011.

Filed Date: 02/10/2011.

Accession Number: 20110210-5123.

Comment Date: 5 p.m. Eastern Time on Tuesday, February 22, 2011.

Docket Numbers: RP11-1769-000.

Applicants: Northern Border Pipeline Company.

Description: Northern Border Pipeline Company submits tariff filing per 154.204: Allocation of Pipeline Capacity to be effective 3/14/2011.

Filed Date: 02/10/2011.

Accession Number: 20110210-5143.

Comment Date: 5 p.m. Eastern Time on Tuesday, February 22, 2011.

Docket Numbers: RP11-1770-000.

Applicants: Northwest Pipeline GP.

Description: Northwest Pipeline GP submits tariff filing per 154.204: JP Morgan Non-Conforming 2-10-2011 to be effective 3/14/2011.

Filed Date: 02/10/2011.

Accession Number: 20110210-5163.

Comment Date: 5 p.m. Eastern Time on Tuesday, February 22, 2011.

Docket Numbers: RP11-1771-000.

Applicants: Ozark Gas Transmission, L.L.C.

Description: Ozark Gas Transmission, L.L.C. submits tariff filing per 154.204: February 11, 2011 Clean-up Filing to be effective 8/13/2010.

Filed Date: 02/11/2011.

Accession Number: 20110211-5028.

Comment Date: 5 p.m. Eastern Time on Wednesday, February 23, 2011.

Docket Numbers: RP11-1494-000.

Applicants: Kinder Morgan Interstate Gas Transmission LLC.

Description: Motion of Kinder Morgan Interstate Gas Transmission LLC for Adoption of Protective Order.

Filed Date: 01/11/2011.

Accession Number: 20110111-5104.

Comment Date: 5 p.m. Eastern Time on Wednesday, February 16, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Dated: February 11, 2011.
Nathaniel J. Davis, Sr.,
Deputy Secretary.

[FR Doc. 2011-4004 Filed 2-22-11; 8:45 am]

BILLING CODE 6717-01-P